DEPARTMENT OF HOMELAND SECURITY

Coast Guard

[USCG-2007-29095]

National Boating Safety Advisory Council

AGENCY: Coast Guard, DHS.

ACTION: Notice of meetings; schedule changes.

SUMMARY: On September 11, 2007, the United States Coast Guard published a notice in the Federal Register (72 FR 51828) announcing a meeting of the National Boating Safety Advisory Council (NBSAC) and its subcommittees on boats and associated equipment, prevention through people, and recreational boating safety strategic planning will meet to discuss issues relating to recreational boating safety. A scheduling conflict has required moving the Boats and Associated Equipment subcommittee meeting to the afternoon of Saturday, October 20, 2007 and the Prevention through People subcommittee meeting to the afternoon of Sunday, October 21, 2007.

DATES: NBSAC will meet on Saturday, October 20, 2007, from 8 a.m. to 12:30 p.m., and on Monday, October 22, 2007, from 8 a.m. to 3:30 p.m. The Boats and Associated Equipment Subcommittee will meet on Saturday, October 20, 2007, from 1:30 p.m. to 4:30 p.m. The Recreational Boating Safety Strategic Planning Subcommittee will meet on Sunday, October 21, 2007, from 8 a.m. to 12 p.m. The Prevention through People Subcommittee will meet on Sunday, October 21, 2007, from 1 p.m. to 4:30 p.m. These meetings may close early if all business is finished. On Sunday, October 21, 2007, a subcommittee meeting may start earlier if the preceding Subcommittee meeting closed early.

ADDRESSES: NBSAC will meet at the Residence Inn Arlington—Pentagon City, 550 Army Navy Drive, Arlington, VA 22202. The subcommittee meetings will be held at the same address. Send written material and requests to make oral presentations to Mr. Jeff Ludwig, Executive Secretary of NBSAC, Commandant (CG-54221), U.S. Coast Guard Headquarters, 2100 Second Street SW., Washington, DC 20593-0001. This notice is available on the Internet at http://dms.dot.gov or the Office of Boating Safety's Web site at http://www.uscgboating.org/nbsac/nbsac.htm.

FOR FURTHER INFORMATION CONTACT: Jeff Ludwig, Executive Secretary of NBSAC, telephone 202-372-1061, fax 202-372-1932.

SUPPLEMENTARY INFORMATION: Notice of these meetings is given under the Federal Advisory Committee Act, 5 U.S.C. App.

Tentative Agendas of Meetings

National Boating Safety Advisory Council (NBSAC)

(1) Remarks—Mr. James P. Muldoon, NBSAC Chairman;

(2) Chief, Office of Boating Safety Update on NBSAC Resolutions and Recreational Boating Safety Program report.

(3) Executive Secretary's report.

(4) Chairman's session.

(5) TSAC Liaison's report.

(6) NAVSAC Liaison's report.

(7) Coast Guard Auxiliary report.

(8) National Association of State Boating Law Administrators report.

(9) Report on upcoming national boating survey.

(10) Prevention Through People Subcommittee report.

(11) Boats and Associated Equipment Subcommittee report.

(12) Recreational Boating Safety Strategic Planning Subcommittee report.

Information on Services for Individuals With Disabilities

For information on facilities or services for individuals with disabilities or to request special assistance at the meetings, contact the Executive Secretary of NBSAC as soon as possible.

Dated: October 4, 2007.
Howard L. Hime,
Acting Director of Commercial Regulations and Standards, United States Coast Guard.

[FR Doc. E7-20321 Filed 10-15-07; 8:45 am]

BILLING CODE 4910-15-P